DEPARTMENT OF COMMERCE

National Oceanic and Atmospheric Administration

[RTID 0648-XF133]

North Pacific Fishery Management Council; Public Meeting

AGENCY: National Marine Fisheries Service (NMFS), National Oceanic and Atmospheric Administration (NOAA), Commerce.

ACTION: Notice of web conference.

SUMMARY: The North Pacific Fishery Management Council (Council) Partial Coverage Fishery Monitoring Advisory Committee (PCFMAC) and Fishery Monitoring Advisory Committee (FMAC) will meet jointly on September 10, 2025.

DATES: The meeting will be held on Wednesday, September 10, 2025, from 8 a.m. to 4 p.m. Alaska time.

ADDRESSES: Join the meeting online through the link at https://meetings.npfmc.org/Meeting/Details/3098.

Council address: North Pacific Fishery Management Council, 1007 W 3rd Ave., Anchorage, Suite 400, Alaska 99501-2252; telephone (907) 271-2809. Instructions for attending the meeting are given under SUPPLEMENTARY INFORMATION below.

FOR FURTHER INFORMATION CONTACT: Sara Cleaver, Council staff; email: sara.cleaver@noaa.gov. For technical support please contact Council administrative staff, email: npfmc.admin@noaa.gov, phone: (907) 271-2809.

SUPPLEMENTARY INFORMATION:

Agenda

Wednesday, September 10, 2025

The September 2025 PCFMAC/FMAC agenda will include (a) updates since the last PCFMAC meeting; (b) review of the draft 2026 Annual Deployment Plan; (c) review of NFWF (National Fish and Wildlife Foundation) EM (electronic monitoring) proposals, and (d) other business. The agenda is subject to change, and the latest version will be posted at https://meetings.npfmc.org/Meeting/Details/3098 prior to the meeting, along with meeting materials.

Connection Information

You can attend the meeting online using a computer, tablet, or smartphone; or by phone only. Connection information will be posted online at: https://meetings.npfmc.org/Meeting/Details/3098.

Public Comment

Public comment letters will be accepted and should be submitted electronically to posted at https://meetings.npfmc.org/Meeting/Details/3098.

Authority: 16 U.S.C. 1801 et seq.

Dated: August 25, 2025.
Rey Israel Marquez,
Acting Deputy Director, Office of Sustainable Fisheries, National Marine Fisheries Service.

[FR Doc. 2025-16431 Filed 8-27-25; 8:45 am]

BILLING CODE 3510-22-P